DEPARTMENT OF ENERGY

Federal Energy Regulatory Commission

[Project No.: 733-010]

Eric Jacobson; Notice of Intent to Prepare an Environmental Assessment and Notice of Scoping Meetings and Site Visit and Soliciting Scoping Comments

May 16, 2008.

Take notice that the following hydroelectric application has been filed with the Commission and is available for public inspection.

a. Type of Application: Minor License.

b. Project No.: 733-010.

c. Date Filed: April 9, 2008.

d. Applicant: Eric Jacobson.

e. Name of Project: Ouray Hydroelectric Project.

f. Location: The project is located on the Uncompahgre River in Ouray County, Colorado. The project occupies lands within the Uncompahgre National Forest managed by the U.S. Forest Service.

g. Filed Pursuant to: Federal Power Act 16 U.S.C. 791 (a)-825(r).

h. Applicant Contact: Eric Jacobson, P.O. Box 745, Telluride, CO 81435; (970) 369-4662.

i. FERC Contact: Steve Hocking, (202) 502-8753 or steve.hocking@ferc.gov.

j. Deadline for filing scoping comments: July 17, 2008.

All documents (original and eight copies) should be filed with: Kimberly D. Bose, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site at http://www.ferc.gov under the “e-Filing” link.

k. This application is not ready for environmental analysis at this time.

l. Project Description: The project consists of the following existing facilities: (1) A 0.48-acre reservoir formed by a masonry gravity dam with an effective structural height of 19.7 feet and a length of 70 feet consisting of a 51-foot-long non-overflow section and a 19-foot-wide overflow spillway, (2) a 6,130-foot-long pressure pipeline, (3) a 32- by 65-foot powerhouse containing three turbine-generating units with a total authorized capacity of 632 kW, and (4) appurtenant facilities.

m. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction by contacting the applicant using the contact information in item (h) above.

You may also register online at http://www.ferc.gov/esubscribenow.htm to be notified via e-mail of new filings and issuances related to this or other pending projects. For assistance, contact FERC Online Support.

n. Scoping Process: The Commission intends to prepare a single environmental assessment (EA) for the project (no draft EA would be prepared) in accordance with the National Environmental Policy Act. The EA will consider both site-specific and cumulative environmental impacts and reasonable alternatives to the proposed action.

Scoping Meetings

Commission staff will hold two scoping meetings in the vicinity of the project at the time and place noted below. The daytime meeting will focus on resource agency, Indian tribes, and non-governmental organization concerns, while the evening meeting is primarily for receiving input from the public. We invite all interested individuals, organizations, and agencies to attend one or both of these meetings and to assist staff in determining the scope of the environmental issues to be addressed in the environmental assessment. The times and locations of these meetings are as follows:

Evening Scoping Meeting

Date: June 16, 2008.

Time: 7 p.m. to 10 p.m. (MST).

Place: Ouray Community Center.

Address: 320 6th Avenue, Ouray, Colorado 81427.

Daytime Scoping Meeting

Date: June 17, 2008.

Time: 9 a.m. to 2 p.m. (MST).

Place: Ouray Community Center.

Address: 320 6th Avenue, Ouray, Colorado 81427.

Scoping Document 1 (SD1), which outlines the subject areas to be addressed in the environmental assessment, was mailed to the individuals and entities on the Commission's mailing list. Copies of SD1 will be available at the scoping meetings or may be viewed on the Web at http://www.ferc.gov using the “eLibrary” link (see item m above). Based on all oral and written comments, a Scoping Document 2 (SD2) may be issued.

Site Visit

We will hold a site visit to the project on Monday, June 16, 2008, from 8 a.m. to about 12 noon. To attend the site visit, meet at 8 a.m. at the valve house parking lot at the Ouray Project in the town of Ouray, Colorado. We will walk about one mile to the project's dam, then return to the parking lot. We will then drive to the project's powerhouse in Ouray. All participants are responsible for their own transportation.

Note that Commission staff may hold a site visit and/or meeting at the project at a later date to discuss any project-related effects to archaeological, historic, or traditional cultural properties.

Meeting Objectives

At the scoping meetings, staff will: (1) Summarize the environmental issues tentatively identified for analysis in the EA; (2) solicit from meeting participants all available information, especially quantifiable data, on the resources at issues; (3) encourage statements from experts and the public on issues that should be analyzed in the EA, including viewpoints in opposition to, or in support of, the staff's preliminary views; (4) determine the resource issues to be addressed in the EA; and (5) identify those issues that require a detailed analysis, as well as those issues that do not require a detailed analysis.

Meeting Procedures

Scoping meetings will be recorded by a stenographer and will become part of the Commission's formal record for this proceeding.

Individuals, organizations, and agencies with environmental expertise and concerns are encouraged to attend the meetings and to assist staff in defining and clarifying the issues to be addressed in the EA.

Kimberly D. Bose,
Secretary.

[FR Doc. E8-11508 Filed 5-21-08; 8:45 am]

BILLING CODE 6717-01-P